DEPARTMENT OF THE INTERIOR

Bureau of Land Management

[20X.LLAK940000 L510100000.ER0000]

Notice of Availability of the Record of Decision for the Alaska LNG Project

AGENCY: Bureau of Land Management, Interior.

ACTION: Notice.

SUMMARY: The Bureau of Land Management (BLM) announces the availability of its Record of Decision (ROD) for the Alaska LNG project, approving the subsequent grant of right-of-way for a natural gas pipeline and sale of mineral materials on BLM-administered lands in Alaska. The Principal Deputy Assistant Secretary, Exercising the authority of the Assistant Secretary, Land and Minerals Management, signed the ROD on July 10, 2020, which constitutes the Department of the Interior's final decision and makes the ROD effective immediately.

ADDRESSES: The ROD is available on the BLM ePlanning website at https://eplanning.blm.gov/eplanning-ui/project/124122/510. Click on the Documents link to find the electronic version of these materials. Hard copies of the ROD are available for public inspection at the following locations:

BLM Alaska Public Information Center, Federal Building, 222 West 7th Avenue, Anchorage, Alaska 99513;

BLM Fairbanks District Office, 222 University Ave., Fairbanks, Alaska 99709;

BLM Anchorage District Office, 4700 BLM Road, Anchorage, Alaska 99507; and

BLM Glennallen Field Office, Milepost 186.5 Glenn Highway, Glennallen, Alaska 99588;

FOR FURTHER INFORMATION CONTACT: Earle Williams, BLM Alaska State Office, 907-271-5762. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Alaska Gasline Development Corporation (AGDC) seeks permits to construct and operate the Alaska LNG project, which includes a proposed 807-mile pipeline to transmit natural gas from a gas treatment plant in Prudhoe Bay, Alaska, to a liquefaction facility near Nikiski, Alaska. The pipeline route would cross approximately 228 miles of BLM-administered lands, almost all of which are within the BLM's Utility Corridor planning area. The AGDC has applied to the BLM for a right-of-way across the BLM-administered lands and its plan of development includes BLM mineral material sales along the pipeline route.

The Federal Energy Regulatory Commission (FERC) was the lead agency in the development of the EIS with the BLM as a cooperating agency. The FERC's Notice of Availability (NOA) for the Final EIS was published on March 12, 2020. The BLM has adopted the FERC's Final EIS No. 20200066 (FERC EIS-0296F), filed March 13, 2020, with the U.S. Environmental Protection Agency. Since the BLM was a cooperating agency, recirculating the document is not necessary under 40 CFR 1506.3(c).

The ROD adopts the EIS and approves the development of the Alaska LNG project on BLM-administered lands as proposed and described in the Final EIS. The ROD also adopts mitigation measures developed through the EIS process and the reasonable and prudent measures from the biological opinion released by the U.S. Fish & Wildlife Service on June 17, 2020, pursuant to the Endangered Species Act.

(Authority: 40 CFR 1506.6(b))

Chad B. Padgett,
State Director, Alaska.

[FR Doc. 2020-16316 Filed 7-27-20; 8:45 am]

BILLING CODE 4310-JA-P